ENVIRONMENTAL PROTECTION AGENCY

[FRL-9309-8]

Science Advisory Board Staff Office Notification of a Public Meeting of the SAB Mercury Review Panel

AGENCY: Environmental Protection Agency (EPA).

ACTION: Notice.

SUMMARY: The Environmental Protection Agency (EPA or Agency) Science Advisory Board (SAB) Staff Office announces a public meeting of the SAB Mercury Review Panel.

DATES: The meeting will be held on June 15, 2011 and June 16, 2011 from 9 a.m. to 5 p.m. and on June 17, 2011 from 8:30 a.m. to 2:30 p.m. (Eastern Time).

ADDRESSES: The Panel meeting will be held at the Marriott at Research Triangle Park, 4700 Guardian Drive, Durham, NC, 27703.

FOR FURTHER INFORMATION CONTACT: Members of the public who wish to obtain further information regarding this meeting may contact Dr. Angela Nugent, Designated Federal Officer (DFO), SAB Staff Office, by telephone/voice mail at (202) 564-2188; by fax at (202) 565-2098 or via e-mail at nugent.angela@epa.gov. General information concerning the EPA Science Advisory Board can be found at the EPA SAB Web site at http://www.epa.gov/sab.

SUPPLEMENTARY INFORMATION: Background: The SAB was established pursuant to the Environmental Research, Development, and Demonstration Authorization Act (ERDAA), codified at 42 U.S.C. 4365, to provide independent scientific and technical advice to the Administrator on the technical basis for Agency positions and regulations. The SAB is a Federal Advisory Committee chartered under the Federal Advisory Committee Act (FACA), 5 U.S.C., App. 2. Pursuant to FACA and EPA policy, notice is hereby given that the SAB Mercury Review Panel will hold a public meeting to review EPA's Technical Support Document: National-Scale Mercury Risk Assessment Supporting the Appropriate and Necessary Finding for Coal and Oil-Fired Electric Generating Units—March 2011. The Panel will comply with the provisions of FACA and all appropriate SAB Staff Office procedural policies.

EPA's Office of Air and Radiation has requested peer review of the March 2011 draft risk assessment for mercury, entitled Technical Support Document: National-Scale Mercury Risk Assessment Supporting the Appropriate and Necessary Finding for Coal and Oil-Fired Electric Generating Units—March 2011. This technical document was developed to support a proposed rule concerning regulation of hazardous air pollutants (HAPs) released from coal-burning electric generating units in the United States (U.S. EGUs) under Section 112(n)(1)(A) of the Clean Air Act (CAA). This regulation may potentially use a Maximally Achievable Control Device (MACT) approach to set a technology-based standard for reducing HAP emissions.

The SAB announced this peer review and requests for public nomination of experts to serve on an ad hoc review panel on February 28, 2011 (76 FR 10896-10897) and March 30, 2011 (76 FR 17649-17650). Information about formation of the Mercury Review Panel can be found at http://yosemite.epa.gov/sab/sabproduct.nsf/fedrgstr_activites/A%26N%20Hg%20Risk%20Assessment%20TSD?OpenDocument.

Availability of Meeting Materials: The agenda will be available on the SAB Web site at http://yosemite.epa.gov/sab/sabproduct.nsf/fedrgstr_activites/A%26N%20Hg%20Risk%20Assessment%20TSD?OpenDocument in advance of the meeting.

EPA contact for background on the draft document to be reviewed: For questions concerning the development of EPA's mercury assessment, on the Web site at http://www.epa.gov/ttn/atw/utility/pro/hg_risk_tsd_3-17-11.pdf, please contact Dr. Zachary Pekar at (919) 541-3704 or pekar.zachary @epa.gov.

Procedures for Providing Public Input: Public comment for consideration by EPA's federal advisory committees and panels has a different purpose from public comment provided to EPA program offices. Therefore, the process for submitting comments to a federal advisory committee is different from the process used to submit comments to an EPA program office.

Federal advisory committees and panels, including scientific advisory committees, provide independent advice to EPA. Members of the public can submit comments for a federal advisory committee to consider as it develops advice for EPA. Input from the public to the SAB will have the most impact if it provides specific scientific or technical information or analysis for SAB panels to consider or if it relates to the clarity or accuracy of the technical information. Members of the public wishing to provide comment should contact the Designated Federal Officer for the relevant advisory committee directly. Oral Statements: In general, individuals or groups requesting an oral presentation at this public meeting will be limited to five minutes per speaker. Interested parties should contact Dr. Angela Nugent, DFO, in writing (preferably via e-mail), at the contact information noted above, by June 10, 2011 to be placed on the list of public speakers for the meeting.

Written Statements: Written statements should be received in the SAB Staff Office by June 10, 2011 so that the information may be made available to the Panel for their consideration. Written statements should be supplied to the DFO in electronic format via e-mail (acceptable file formats: Adobe Acrobat PDF, WordPerfect, MS Word, MS PowerPoint, or Rich Text files in IBM-PC/Windows 98/2000/XP format). It is the SAB Staff Office general policy to post written comments on the Web page for the advisory meeting or teleconference. Submitters are requested to provide an unsigned version of each document because the SAB Staff Office does not publish documents with signatures on its Web sites. Members of the public should be aware that their personal contact information, if included in any written comments, may be posted to the SAB Web site. Copyrighted material will not be posted without explicit permission of the copyright holder.

Accessibility: For information on access or services for individuals with disabilities, please contact Dr. Angela Nugent at the phone number or e-mail address noted above, preferably at least ten days prior to the meeting, to give EPA as much time as possible to process your request.

Dated: May 16, 2011.
Anthony F. Maciorowski,
Deputy Director, EPA Science Advisory Board Staff Office.

[FR Doc. 2011-12598 Filed 5-20-11; 8:45 am]

BILLING CODE 6560-50-P